DEPARTMENT OF HEALTH AND HUMAN SERVICES

Administration for Children and Families

Statement of Organization, Functions, and Delegations of Authority

This notice amends Part K of the Statement of Organization, Functions, and Delegations of Authority of the Department of Health and Human Services (DHHS), Administration for Children and Families (ACF) as follows: Chapter KP, the Office of the Deputy Assistant Secretary for Administration (ODASA), previously amended on October 6, 1999, (64 FR 54330) and January 2, 1998, (63 FR 81). This notice reflects the restructuring of the Office of the Deputy Assistant Secretary for Administration.

This Chapter is amended as follows:

1. Chapter KP, Office of the Deputy Assistant Secretary for Administration

a. Delete KP.10 Organization in its entirety and replace with the following:

KP.10 Organization. The Office of the Deputy Assistant Secretary for Administration is headed by the Deputy Assistant Secretary who reports to the Assistant Secretary for Children and Families. The Office is organized as follows:

• Office of the Deputy Assistant Secretary for Administration (KPA)

• Office of Information Services (KPB)

• Office of Financial Services (KPC)

• Office of Organizational Development Services (KPD)

• Office of Customer Service and Administration (KPE)

• Executive Secretariat Office (KPG)

• Equal Employment Opportunity and Civil Rights Staff (KPH)

• Office of Administrative Services and Facilities Management (KPL)

b. Delete KP.20 Functions, Paragraph A, in its entirety and replace with the following:

KP.20 Functions. A. Office of the Deputy Assistant Secretary for Administration (ODASA) directs and coordinates all administrative activities for the Administration for Children and Families (ACF). The Deputy Assistant Secretary for Administration serves as ACF's: Chief Financial Officer; Chief Grants Management Officer; Federal Manager's Financial Integrity Act Management Control Officer; Principal Information Resource Management Official serving as Chief Information Officer; Deputy Ethics Counselor; Personnel Security Representative; and Reports Clearance Officer. The Deputy Assistant Secretary for Administration serves as the ACF liaison to the Office of the General Counsel and, as appropriate, initiates action in securing resolution of legal matters relating to management of the agency, and represents the Assistant Secretary on all administrative litigation matters.

The Deputy Assistant Secretary for Administration provides day-to-day executive leadership and direction to the Equal Employment Opportunity and Civil Rights Staff; Executive Secretariat Office; Office of Administrative Services and Facilities Management; Office of Customer Service and Administration; Office of Financial Services; Office of Information Services; Office of Organizational Development Services; and Office of State Systems Policy. The Deputy Assistant Secretary for Administration represents the Assistant Secretary in HHS and with other Federal agencies and task forces in defining objectives and priorities, and in coordinating activities associated with reinvention and continuous improvement initiatives.

c. Delete KP.20 Functions, Paragraph B, in its entirety and replace with the following:

B. The Office of Information Services (OIS) provides centralized information technology policy, procedures, standards and guidelines. The OIS Director serves as the Deputy Chief Information Officer, supporting the Chief Information Officer in the full range of activities required to carry out ACF's information technology (IT) and information resource management (IRM) programs. The Office provides liaison with OMB, GSA, and GAO on all IT and IRM matters and manages major interdepartmental IRM initiatives. It directs and coordinates ACF's Privacy Act responsibilities. The Office coordinates mandated OMB information collection approvals and plans. It directs and maintains ACF records and forms management programs. OIS develops long-range IRM plans; develops IRM policy, procurement plans and budgets for ACF information systems. The Office develops and implements procurement strategies for ADP support services. OIS reviews and analyzes all ADP acquisition documentation for compliance with applicable laws and regulations as well as for procurement strategy. It coordinates technical assistance provided to program offices on ADP support services procurements. The Office develops, recommends and implements ACF-wide policies, procedures, standards and guidelines concerning electronic government (e-government). It oversees the implementation of e-government policies through leadership and coordination with ACF program and staff offices. OIS serves as the ACF liaison with the Department and other federal and non-federal agencies to coordinate strategies and polices relative to staff development and training and e-government activities. The Office develops training policy and plans for ACF.

It provides leadership in directing and managing agency-wide staff development and training activities for ACF. OIS is responsible for the functional management of all information technology and software training, common needs training, and management training in the agency, including policy development, guidance, technical assistance and evaluation of all aspects of career, employee, supervisory, management and executive training. The Office provides leadership in managing/overseeing and monitoring the ACF Training Resource Center and the Computer Training and Information Centers. The Office develops and manages the consolidated training budget for the Agency.

OIS plans, manages, maintains and operates ACF's local area networks, national wide area network and personal computers; provides for equipment and software acquisition, maintenance and user support for end-user computing; and manages and maintains a Help Desk for ACF users. OIS develops and implements policies and plans for and acquires and manages data communications services; provides liaison with HHS, GSA and private firms on data communications matters; and provides assistance to ACF components to identify needs for and the use of data communications equipment and systems.

OIS designs, develops, implements and maintains application systems to support ACF budget, program and administrative systems. The Office provides technical assistance to ACF program offices procuring system support services; provides technical assistance on automated systems to state and local agencies who are users of ACF's computer systems; develops software policy, procedures, standards and guidelines and conducts major information system reviews of ADP systems as required by the Department.

OIS designs, develops, and maintains system support for e-government activities; provides technical assistance to ACF program offices for e-government support services; and provides technical assistance on e-government systems to state and local agencies.

OIS establishes, implements, maintains and oversees an IT security program that assures adequate security is provided for all agency information collected, processed, transmitted, stored or disseminated in general support systems and applications. The Office develops and implements agency-wide policies, standards and procedures consistent with government-wide IT security policies; conducts the ACF system security activities required by OMB IT security directives; develops, implements and maintains a security training plan for IT professionals; and provides security awareness training for all ACF staff.

d. Delete KP.20 Functions, Paragraph C, in its entirety and replace with the following:

C. The Office of Financial Services (OFS) supports the Deputy Assistant Secretary for Administration in fulfilling ACF's Chief Financial Officer (CFO), Management Control Officer, and Chief Grants Management Officer responsibilities including preparation of the CFO 5-Year Plan; performs audit oversight and liaison activities, including preparing reports to Congress, Office of the General Counsel and the Office of the Inspector General. OFS writes/interprets financial policy and researches appropriation law issues; oversees and coordinates ACF's Federal Manager's Financial Integrity Act activities; performs debt management functions; develops and administers quality assurance, training and certification programs for grants management; and is responsible for the annual preparation and audit of ACF's financial statement requirements. It develops/interprets internal policies and procedures for ACF components and coordinates the management of ACF's interagency agreement activities.

The Office provides agency-wide guidance to program and regional office staff on grant related issues; including developing and interpreting financial and grants policy, coordinating strategic grants planning, facilitating policy advisory groups, and assuring consistent grant program announcements. The Office prepares, coordinates and disseminates action transmittals, information memoranda, and other policy guidance on financial and grants management issues; provides financial and grants administration technical assistance to ACF staff and grantees; directs and/or coordinates management initiatives to improve financial administration of ACF mandatory and discretionary grant programs. OFS develops and administers grants management training for ACF program and grants staff and administers grants management certification for ACF grants staff.

OFS is responsible for developing departmental policies and procedures under which States obtain Federal financial participation in the cost of automated systems development to support programs funded under the Social Security Act. It serves as the departmental focal point and coordinator for the development and implementation of strategies and policies related to payment integrity, welfare systems integration, electronic benefit transfer and related initiatives and programs; and provides leadership and guidance to interagency work groups in these areas for the Department.

The Office provides policy guidance, management leadership and coordination regarding the optimum inter-operation of the multitude of complex Federal, State, local, tribal and private information technology systems used to carry out ACF programs. OFS provides leadership and coordination in the areas of systems assessments, systems design and planning, systems integration, data exchanges, information management, information security and electronic information exchanges. The Office leads ACF activities associated with business continuity contingency planning and with information technology partnership planning which occurs between ACF and its program partners.

e. Delete KP.20 Functions, Paragraph D, in its entirety and replace with the following:

D. The Office of Organizational Development Services (ODS) advises the Assistant organizational analysis and development including: delegations of authority; planning for new organizational elements; and planning, organizing and performing studies, analyses and evaluations related to structural, functional and organizational issues, problems and policies to ensure organizational effectiveness. The Office administers ACF's system for review, approval and documentation of delegations of authority. The Office provides technical assistance and guidance to ACF offices on intra-component organizational proposals and is responsible for development and/or review of inter-component organizational proposals. The Office develops policies and procedures for implementing organizational development activities and provides leadership of assigned ACF special initiatives arising from Departmental, federal and non-federal directives to improve service delivery to customers and to enhance employee work environment. The Office manages and administers ACF's Alternate Dispute Resolution (ADR) Program and other programs impacting the employee work environment, including developing and providing guidance, policies and procedures for ACF offices and serving as liaison with the Department and other federal agencies for coordination of strategies and processes for the ADR and other assigned programs.

The Office coordinates assigned agency-wide management initiatives that include: coordination and implementation of the HHS and ACF employee work life program; administrative guidance and support to the HHS and ACF Labor-Management Partnership Councils and other assigned Workgroups; and coordination of Departmental and other employee surveys. The Office provides guidance to ACF program/staff/regional offices in developing strategies for implementation of initiatives; seeks counsel and advice from the Department and other federal agencies; and develops evaluation instruments to measure the success of ACF initiatives. The Office manages and coordinates designated incentive awards programs.

f. Delete KP.20 Functions, Paragraph E, in its entirety and replace with the following:

E. The Office of Customer Service and Administration (OCSA) advises the Assistant Secretary, through the Deputy Assistant Secretary for Administration, on human resource management for ACF; and provides direction, leadership and management of the internal administrative activities of the Office of the Deputy Assistant Secretary for Administration.

OCSA provides leadership, direction and oversight for human resource management services provided to ACF through a contract and supplemental memoranda of understanding (MOUs) with the Program Support Center (PSC).

OCSA, in collaboration and coordination with the PSC, provides advice and assistance to ACF managers in their personnel management activities, including recruitment, selection, position management, performance management, designated performance and incentive awards and employee assistance programs and other services to ACF employees. OCSA provides management, direction and oversight of the following personnel administrative services: the exercise of appointing authority, position classification, awards authorization, performance management evaluation, personnel action processing and record keeping, merit promotion, special hiring and placement programs. OCSA serves as liaison between ACF, the Department and the Office of Personnel Management. It provides technical advice and assistance on personnel policy, regulations and laws. OCSA formulates and interprets policies pertaining to existing personnel administration and management matters and formulates and interprets new human resource programs and strategies.

OCSA, in collaboration and coordination with the PSC, provides oversight and management advisory services on all ACF labor management and employee relations issues. The Office plans and coordinates ACF employee relations and labor relations activities, including the application and interpretation of the Federal Labor Management Relations Program, collective bargaining agreements, disciplinary and adverse action regulations and appeals. OCSA participates in the formulation and implementation of policies, practices and matters affecting bargaining unit employees' working conditions by assuring management's compliance with the Federal Labor Relations Program (5 U.S.C. Chapter 71). The Office maintains oversight, leadership and direction of the labor-management and employee relations services provided under contract with the PSC.

OCSA is responsible for formulation, planning, analysis and development of ACF human resource policies and programs, workforce planning, retirement and benefits counseling and liaison functions to the Department on ACF payroll matters.

OCSA formulates and oversees the implementation of ACF-wide policies, regulations and procedures concerning all aspects of the Senior Executive Service (SES), and SES-equivalent recruitment, staffing, position establishment, compensation, award, performance management and related personnel areas. The Office manages the ACF SES performance recognition systems and provides services for functions of the Executive Secretary to the Executive Resources Board and the Performance Review Board.

OCSA coordinates Schedule C and executive personnel activity with the Office of the Secretary and is the focal point for data, reports and analyses relating to Schedule C, SES and Executive-level personnel.

OCSA administers the ACF Ethics Program, the Personnel Security Program and the Drug Testing Program in coordination with the Department's Office of Government Ethics, the Office of General Counsel and the Office of Security and Drug Testing.

OCSA provides direction in meeting the human resource management needs within ODASA. The Office is responsible for providing leadership, guidance, oversight and liaison functions for ODASA personnel related issues and activities as well as other administrative functions within ODASA. OCSA coordinates with the Department to provide ODASA staff with personnel services including position management, performance management, employee recognition, staffing, recruitment, employee and labor relations, employee assistance, payroll liaison, staff development and training, and special hiring and placement programs. OCSA develops and maintains systems to track personnel actions to keep the Deputy Assistant Secretary for Administration and OA Office Directors informed about the status of personnel actions, employee programs, services and benefits.

g. Delete KP.20 Functions, Paragraph F, in its entirety.

h. Delete KP.20 Functions, Paragraph G, in its entirety and replace with the following:

G. The Executive Secretariat Office (ExecSec) ensures that issues requiring the attention of the Assistant Secretary, Deputy Assistant Secretaries and/or executive staff are addressed on a timely and coordinated basis and facilitates decisions on matters requiring immediate action including White House, Congressional and Secretarial assignments. The Office serves as the ACF liaison with the HHS Executive Secretariat. It receives, assesses and controls incoming correspondence and assignments to the appropriate ACF component(s) for response and action and provides assistance and advice to ACF staff on the development of responses to correspondence. The Office provides assistance to ACF staff on the use of the controlled correspondence system. The Office coordinates and/or prepares congressional correspondence; and tracks development of periodic reports and facilitates departmental clearances. The Director of the Executive Secretariat Office serves as the Freedom of Information Act Officer for ACF and coordinates hot line calls received by the Office of Inspector General and the General Accounting Office relating to ACF operations and personnel.

i. Delete KP.20 Functions, Paragraph H, in its entirety and replace with the following:

H. The Equal Employment Opportunity and Civil Rights Staff (EEOCRS) serves as the principal advisor, through the Deputy Assistant Secretary for Administration, to the Assistant Secretary on all aspects of the Agency Equal Employment Opportunity and Civil Rights program.

The Staff serves as the liaison between ACF and the HHS Office for Civil Rights. The Staff directs and manages the ACF Equal Employment Opportunity and Civil Rights program in accordance with Equal Employment Opportunity Commission (EEOC) regulations and HHS guidelines. The immediate oversight is provided by a staff under the direction of the ACF EEO Officer. The Staff plans, develops and evaluates programs and procedures designed to identify and eliminate discrimination in employment, training, incentive awards, promotion and career opportunities. They are responsible for implementing and evaluating a cost-effective, timely and impartial system for processing individual complaints of discrimination under Title VII of the Civil Rights Act of 1964, as amended. The Staff provides information, guidance, advice and technical assistance to ACF supervisors and managers on affirmative employment planning and other means of achieving parity and promoting work force diversity. The Staff is responsible for ensuring that ACF-conducted programs do not discriminate against recipients on the basis of race, color, national origin, age or disability. The Staff monitors and implements civil rights compliance actions under Title VI, Section 504 of the Rehabilitation Act of 1973, as amended and the Age Discrimination Act of 1975, as amended. The Staff implements the applicable provisions of the Americans With Disabilities Act of 1990.

j. Delete KP.20 Functions, Paragraph L, in its entirety and replace with the following:

L. The Office of Administrative Services and Facilities Management (OASFM) directs and manages ACF's administrative support services, and facilities management programs and activities.

The Office provides, prepares, coordinates and disseminates information, policy and procedural guidance on administrative and facilities management issues on an agency-wide basis. It directs and/or coordinates management initiatives to improve ACF administrative and facilities management services with the goal of continually improving services while containing costs.

OASFM maintains budgetary controls on administrative services accounts, reconciling accounting reports and invoices, and monitoring all spending. The Office controls credit card for small purchases on behalf of the Agency. OASFM establishes and manages contracts and/or blanket purchase agreements for administrative support and facilities management services, including space design, building alteration and repair, telecommunications, reprographics, physical security, moving, labor, property management and inventory, systems furniture acquisitions and assembly, and fleet management.

The Office provides management and oversight of ACF mail delivery services and activities, including Federal and contractor postal services nationwide, covering all classes of U.S. Postal Service mail, priority and express mail services, and courier services, etc.

OASFM directs all activities associated with the ACF Master Housing Plan, including coordination and development of the agency long-range space budget; planning, budgeting, identification, solicitation, acceptance and utilization of office and special purpose space, repairs, and alterations; serving as principal liaison with GSA and other Federal agencies, building managers and facilities engineers, architects and commercial representatives, for space acquisition, negotiation of lease terms, dealing with sensitive issues such as handicapped barriers, space shortages, and security. It develops and maintains space floor plans and inventories, directory boards, and locator signs. OASFM serves as the lead for ACF in coordination and liaison with Departmental, GSA, Federal Protective Service, and other Federal agencies on implementation of federal physical security directives. The Office is responsible for planning and executing the Agency's environmental health, safety and physical security programs, ensuring that appropriate occupational health and safety and occupant emergency evacuation plans are in place. It serves as principal liaison with private and/or Federal building managers for all administrative services and facilities management activities. The Office is responsible for issuing, managing and controlling badge and cardkey systems to control access to agency space for security purposes.

OASFM develops and/or implements agency telecommunications management policy in accordance with Federal regulations and procedures. The Office reviews and directs payment of agency telephone invoices. It recommends and advises on the design and function of telecommunications systems, based on user needs, costs and technological availability. OASFM communicates directly with private industry service providers to coordinate the acquisition, installation and maintenance of voice/data telecommunications equipment and systems. It is responsible for other sources of communications capability such as pagers, cellular phone service, cable TV service, and audio conferencing equipment and service. It updates and maintains the ACF LAN-based telephone directory, handles the distribution of all commercial directories and updates and maintains the databases for telephone lines and equipment inventories.

OASFM plans, manages/operates employee transportation programs, including shuttle service and fleet management; employee and visitor parking; and commuter services and programs including transit subsidies and ridesharing. The Office develops and implements ACF travel policies and procedures consistent with Federal requirements. The Office provides technical assistance and oversight; coordinates ACF use of the Travel Management System; manages employee participation in the Travel Charge Card program, and coordinates Travel Management Center services for ACF. OASFM purchases and tracks common use supplies, stationery and publications. It plans and manages reprographic services.

The Office develops and implements policies and procedures for the ACF Personal Property Management Program, including managing the ACF Personal Property Inventory, and other personal property activities.

Dated: February 21, 2001.
Elizabeth M. James Duke,
Deputy Assistant Secretary for Administration.

[FR Doc. 01-4731 Filed 2-26-01; 8:45 am]

BILLING CODE 4184-01-P